DEPARTMENT OF ENERGY

Federal Energy Regulatory Commission

Notice of Public Comment Session Schedule Change for the Draft Environmental Impact Statement for the Proposed Atlantic Coast Pipeline, Supply Header Project, and Capacity Lease Proposal

| Docket Nos.
Atlantic Coast Pipeline, LLC | CP15-554-000, CP15-554-001
Dominion Transmission, Inc | CP15-555-000
Piedmont Natural Gas Company, Inc | CP15-556-000

On December 30, 2016, the Commission issued a Notice of Availability of the draft environmental impact statement in the above-captioned proceeding. Due to a scheduling conflict with the contracted venue in Nelson County, the start time for the public comment session scheduled on February 22 at Nelson County High School has changed. This errata notice announces the Wednesday, February 22, 2017 public comment session will begin at 6:30 p.m. The session ending time remains 9:00 p.m. Additional court reporters will be available at the Nelson County High School public comment session to account for the reduced session length.

Dated: February 2, 2017.
Kimberly D. Bose,
Secretary.

[FR Doc. 2017-02652 Filed 2-8-17; 8:45 am]

BILLING CODE 6717-01-P